DEPARTMENT OF COMMERCE

International Trade Administration

[A-570-849]

Certain Cut-to-Length Carbon Steel Plate From the People's Republic of China: Final Results of the Expedited Fourth Sunset Review of the Antidumping Duty Order

AGENCY: Enforcement and Compliance, International Trade Administration, Department of Commerce.

SUMMARY: As a result of this expedited sunset review, the Department of Commerce (Commerce) finds that revocation of the antidumping duty (AD) order on certain cut-to-length carbon steel plate from the People's Republic of China (China) would be likely to lead to continuation or recurrence of dumping at the level indicated in the “Final Results of Sunset Review” section of this notice.

DATES: Applicable March 8, 2021.

FOR FURTHER INFORMATION CONTACT: Abdul Alnoor, AD/CVD Operations, Office IV, Enforcement and Compliance, International Trade Administration, U.S. Department of Commerce, 1401 Constitution Avenue NW, Washington, DC 20230; telephone: (202) 482-4554.

SUPPLEMENTARY INFORMATION:

Background

After publication of the notice of initiation of this sunset review of the AD order on certain cut-to-length carbon steel plate from China,¹ pursuant to section 751(c) of the Tariff Act of 1930, as amended (the Act), the domestic interested parties, consisting of ArcelorMittal USA LLC (AMUSA), JSW Steel (USA) Inc. (JSW), Nucor Corporation (Nucor), and SSAB Enterprises LLC (SSAB) (collectively, the domestic interested parties) filed with Commerce timely and complete notices of intent to participate in the sunset review.² Also, AMUSA, Nucor, and SSAB timely filed an adequate substantive response with Commerce.³ Commerce did not receive a substantive response from any respondent interested party. As a result, pursuant to section 751(c)(3)(B) of the Act and 19 CFR 351.218(e)(1)(ii)(C)(2), Commerce conducted an expedited (120-day) sunset review of the Order.⁴

¹ See Initiation of Five-Year (Sunset) Reviews, 85 FR 69585 (November 3, 2020); see also Suspension Agreement on Certain Cut-to-Length Carbon Steel Plate from the People's Republic of China; Termination of Suspension Agreement and Notice of Antidumping Duty Order, 68 FR 60081 (October 21, 2003) (Order); Final Determination of Sales at Less than Fair Value: Certain Cut-to-Length Carbon Steel Plate from the People's Republic of China, 62 FR 61964 (November 20, 1997); and Amended Final Determination of Sales at Less Than Fair Value: Certain Cut-to-Length Carbon Steel Plate from the People's Republic of China, 63 FR 1821 (January 12, 1998).

² See SSAB's Letter, “Notice of Intent to Participate in the Fourth Five-Year Review of the Antidumping Duty Order on Certain Cut-to-Length Carbon Steel Plate from China,” dated November 13, 2020; see also AMUSA's Letter, “Cut-to-Length Carbon Steel Plate from the People's Republic of China—ArcelorMittal USA LLC's Notice of Intent to Participate,” dated November 16, 2020; Nucor's Letter, “Cut-to-Length Carbon Steel Plate from the People's Republic of China: Notice of Intent to Participate in Review,” dated November 16, 2020; and JSW's Letter, “Cut-to-Length Carbon Steel Plate from the People's Republic of China: Notice of Intent to Participate in Review,” dated November 18, 2020.

³ See Domestic Interested Parties' Letter, “Cut-to-Length Carbon Steel Plate from the People's Republic of China; Five Year (4th Sunset) Review—Domestic Interested Parties' Substantive Response,” dated November 30, 2020.

⁴ For a complete description of the background of this sunset review of the Order, see Memorandum, “Issues and Decision Memorandum for the Expedited Fourth Sunset Review of the Antidumping Duty Order on Certain Cut-to-Length Carbon Steel Plate from the People's Republic of China,” dated concurrently with, and hereby adopted by, this notice (Issues and Decision Memorandum).

Scope of the Order

The product covered by the Order is certain cut-to-length carbon steel plate from China. Included in this description is hot-rolled iron and non-alloy steel universal mill plates (i.e., flat-rolled products rolled on four faces or in a closed box pass, of a width exceeding 150 millimeters (mm) but not exceeding 1250 mm and of a thickness of not less than 4 mm, not in coils and without patterns in relief), of rectangular shape, neither clad, plated nor coated with metal, whether or not painted, varnished, or coated with plastics or other nonmetallic substances; and certain iron and nonalloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this Order are flat-rolled products of nonrectangular cross-section where such cross-section is achieved subsequent to the rolling process (i.e., products which have been “worked after rolling”)—for example, products which have been beveled or rounded at the edges. This merchandise is currently classified in the Harmonized Tariff Schedule of the United States (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTSUS subheadings are provided for convenience and customs purposes, the written description of the scope of the Order is dispositive. Specifically excluded from the subject merchandise within the scope of the Order is grade X-70 steel plate.

Analysis of Comments Received

A complete discussion of all issues raised in this sunset review, including the likelihood of continuation or recurrence of dumping in the event of revocation of the Order and the magnitude of the dumping margins likely to prevail if the Order is revoked, is provided in the Issues and Decision Memorandum.⁵ A list of the sections in the Issues and Decision Memorandum is attached as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed on the internet at http://enforcement.trade.gov/frn/. The signed and electronic versions of the Issues and Decision Memorandum are identical in content.

⁵ Id.

Final Results of Sunset Review

Pursuant to sections 751(c)(1), 752(c)(1) and (3) of the Act, Commerce determines that revocation of the Order would likely lead to continuation or recurrence of dumping, and that the magnitude of the dumping margins likely to prevail are weighted-average dumping margins up to 128.59 percent.

Administrative Protective Orders

This notice also serves as the only reminder to parties subject to administrative protective order (APO) of their responsibility concerning the return or destruction of proprietary information disclosed under APO in accordance with 19 CFR 351.305. Timely notification of the return or destruction of APO materials, or the conversion to judicial protective order, is hereby requested. Failure to comply with the regulations and terms of an APO is a violation which is subject to sanction.

Notification to Interested Parties

We are issuing and publishing these results and notice in accordance with sections 751(c), 752(c), and 777(i)(1) of the Act, and 19 CFR 351.218 and 19 CFR 351.221(c)(5)(ii).

Dated: March 2, 2021.
Christian Marsh,
Acting Assistant Secretary for Enforcement and Compliance.

Appendix—Sections in the Issues and Decision Memorandum

I. Summary

II. Background

III. Scope of the Order

IV. History of the Order

V. Legal Framework

VI. Discussion of the Issues

1. Likelihood of Continuation or Recurrence of Dumping

2. Magnitude of the Margin of Dumping Likely To Prevail

VII. Final Results of Sunset Review

VIII. Recommendation

[FR Doc. 2021-04768 Filed 3-5-21; 8:45 am]

BILLING CODE 3510-DS-P